DEPARTMENT OF THE INTERIOR

National Park Service

National Register of Historic Places; Notification of Pending

Nominations and Related Actions Nominations for the following properties being considered for listing or related actions in the National Register were received by the National Park Service before June 6, 2009. Pursuant to section 60.13 of 36 CFR part 60 written comments concerning the significance of these properties under the National Register criteria for evaluation may be forwarded by United States Postal Service, to the National Register of Historic Places, National Park Service, 1849 C St., NW., 2280, Washington, DC 20240; by all other carriers, National Register of Historic Places, National Park Service, 1201 Eye St., NW., 8th floor, Washington, DC 20005; or by fax, 202-371-6447. Written or faxed comments should be submitted by July 7, 2009.

J. Paul Loether,
Chief, National Register of Historic Places/National Historic Landmarks Program.

ARIZONA

Maricopa County

Arizona State Hospital Building, 2500 E. Van Buren St., Phoenix, 09000510

Southern Pacific Railroad Locomotive No. SP 2562 and Tender No. 8365, 330 E. Ryan Rd., Chandler, 09000511

Mohave County

John Osterman Gas Station, 888 US 66, Peach Springs, 09000543

Peach Springs Trading Post (Boundary Increase), 865 US 66, Peach Springs, 09000542

ARKANSAS

Fulton County

Mammoth Spring Dam and Lake, 17 US 63 N., Mammoth Spring, 09000512

Pulaski County

Federal Reserve Bank Building (Boundary Increase), (Thompson, Charles L., Design Collection TR) 123 W. 3rd St., Little Rock, 09000513

Sebastian County

Hartford Commercial Historic District, Buildings on the E. side of Broadway St. from 12 N. Broadway to 106 S. Broadway, Hartford, 09000514

CALIFORNIA

Los Angeles County

Killingsworth, Brady, & Smith, 3827-3837 Long Beach Blvd., Long Beach, 09000515

IOWA

Winneshiek County

Big Stone Mills, (Flour Milling in Iowa MPS) 113 N. Main St., Spillville, 09000516

LOUISIANA

Lafourche Parish Vives House, 923 Jackson St., Thibodaux, 09000517

St. Tammany Parish Haaswood Store, 62011 US 1091, Pearl River, 09000518

MARYLAND

Carroll County

Taylor-Manning-Leppo House, 2600 Patapsco Rd., Finksburg, 09000519

MICHIGAN

Allegan County

Leiendecker's Inn—Coral Gables, 220 Water St., Saugatuck, 09000520

Berrien County

Lakeside Inn, 15251 Lakeshore Rd., Lakeside, 09000521

Houghton County

Lake Linden Historic District, Calumet St. between 1st and 8th plus parts of Hecla and Schoolcraft Sts., Lake Linden, 09000522

Van Buren County

Bangor Elevator, 142 W. Monroe St., Bangor, 09000523

Wayne County

Eberts, John and Emma Lacey, House, 109 Vinewood Ave., Wyandotte, 09000524

Wyandotte Odd Fellows Temple, 81 Chestnut St., Wyandotte, 09000527

NEBRASKA

Buffalo County

Kearney National Guard, 1600 Central Ave., Kearney, 09000525

Douglas County

Northwestern Bell Telephone Company Regional Headquarters, 100 S. 19th St., Omaha, 09000526

Fillmore County

Maple Grove Sales Pavilion and Farrowing Barn, 2408 Rd. W, Tobias, 09000528

NORTH CAROLINA

Greene County

Neoheroka Fort Site, Address Restricted, Snow Hill, 09000529

NORTH DAKOTA

Grant County

Evangelisch Lutheraner Dreieinigkeit Gemeinde (Evangelical Lutheran Trinity Church), 63rd St., SW section 15 Township 135 Range 90, New Leipzig, 09000530

OREGON

Clackamas County

Iron Workers' Cottage, 40 Wilbur St., Lake Oswego, 09000531

Deschutes County

Pictograph Site, Address Restricted, Brothers, 09000532

TENNESSEE

Carter County

Shelving Rock Encampment, TN 143 and Smith Branch Rd., Roan Mountain, 09000533

Hardin County

Savannah Historic District (Boundary Increase), Roughly bounded by College St., Main St., Tennessee St., and Williams St., Savannah, 09000534

Jackson County

Jackson County High School, 707 School Dr., Gainesboro, 09000535

Knox County

Stratford, (Knoxville and Knox County MPS) 809 Dry Gap Pike, Knoxville, 09000536

McMinn County

Trinity United Methodist Church, 100 E. College St., Athens, 09000537

Putnam County

White Plains, 2700 Old Walton Rd., Cookeville, 09000538

Shelby County

Idlewild Presbyterian Church, (Memphis MPS) 1750 Union Ave., Memphis, 09000539

VIRGINIA

Prince William County

Commanding General's Quarters, Quantico Marine Base, 100 Block of Neville Rd., Quantico Marine Base, Quantico, 09000540

WASHINGTON

Kittitas County

Thorp Grade School, (Rural Public Schools of Washington State MPS) 10831 N. Thorp Hwy., Thorp, 09000541

Request for REMOVAL has been made for the following resources:

ARIZONA

Maricopa County

Archeological Site No. AZ U:10:65 (ASM) (Hohokam and Euroamerican Land Use and Settlement Along the Northern Queen Creek Delta MPS), Address Restricted, Mesa, 95000754

Archeological Site No. AZ U:10:66 (ASM) (Hohokam and Euroamerican Land Use and Settlement Along the Northern Queen Creek Delta MPS), Address Restricted, Mesa, 95999754

SOUTH DAKOTA

Spink County

Ashton Methodist Church NE corner of 2nd Ave. and 2nd St., Ashton, 82003939

[FR Doc. E9-14536 Filed 6-19-09; 8:45 am]

BILLING CODE P